DEPARTMENT OF TRANSPORTATION

Federal Aviation Administration

14 CFR Part 97

[Docket No. 30971; Amdt. No. 3602]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 11, 2014. The compliance date for each SIAP, associated Takeoff Minimums, and ODP is specified in the amendatory provisions.

The incorporation by reference of certain publications listed in the regulations is approved by the Director of the Federal Register as of August 11, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK. 73169 (Mail Address: P.O. Box 25082 Oklahoma City, OK. 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (air).

Issued in Washington, DC on July 18, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
21-Aug-14 | IN | Connersville | Mettel Field | 4/0013 | 07/07/14 | RNAV (GPS) RWY 36, Amdt 2.
21-Aug-14 | MI | Hillsdale | Hillsdale Muni | 4/0018 | 07/08/14 | RNAV (GPS) RWY 28, Orig.
21-Aug-14 | WA | Hoquiam | Bowerman | 4/0027 | 06/30/14 | VOR/DME RWY 24, Amdt 6A.
21-Aug-14 | WA | Hoquiam | Bowerman | 4/0029 | 06/30/14 | ILS OR LOC/DME RWY 24, Amdt 4A.
21-Aug-14 | WA | Hoquiam | Bowerman | 4/0040 | 06/30/14 | RNAV (GPS) RWY 24, Amdt 2B.
21-Aug-14 | WA | Moses Lake | Grant Co Intl | 4/0117 | 06/30/14 | VOR RWY 22, Amdt 5A.
21-Aug-14 | IL | Kankakee | Greater Kankakee | 4/1095 | 07/07/14 | VOR RWY 22, Amdt 7B.
21-Aug-14 | IL | Kankakee | Greater Kankakee | 4/1097 | 07/07/14 | RNAV (GPS) RWY 22, Amdt 1.
21-Aug-14 | IL | Galesburg | Galesburg Muni | 4/1111 | 07/07/14 | RNAV (GPS) RWY 21, Orig.
21-Aug-14 | IL | Galesburg | Galesburg Muni | 4/1113 | 07/07/14 | VOR RWY 21, Amdt 7.
21-Aug-14 | KY | Louisville | Louisville Intl-Standiford Field | 4/1302 | 07/09/14 | ILS OR LOC RWY 35L, ILS RWY 35L (SA CAT I), ILS RWY 35L (CAT II & III), Amdt 3.
21-Aug-14 | MN | Aitkin | Aitkin Muni-Steve Kurtz Field | 4/1484 | 07/07/14 | RNAV (GPS) RWY 16, Orig.
21-Aug-14 | OH | Akron | Akron-Canton Rgnl | 4/1485 | 07/09/14 | ILS OR LOC RWY 23, Amdt 11A.
21-Aug-14 | MN | Aitkin | Aitkin Muni-Steve Kurtz Field | 4/1498 | 07/07/14 | RNAV (GPS) RWY 34, Orig.
21-Aug-14 | MN | Aitkin | Aitkin Muni-Steve Kurtz Field | 4/1499 | 07/07/14 | NDB RWY 16, Amdt 5.
21-Aug-14 | NC | Ahoskie | Tri-County | 4/1619 | 07/17/14 | GPS RWY 1, Orig.
21-Aug-14 | IA | Iowa Falls | Iowa Falls Muni | 4/1838 | 07/07/14 | RNAV (GPS) RWY 31, Amdt 1.
21-Aug-14 | VA | Roanoke | Roanoke Rgnl/Woodrum Field | 4/2347 | 07/09/14 | ILS OR LOC RWY 34, Amdt 14.
21-Aug-14 | VA | Roanoke | Roanoke Rgnl/Woodrum Field | 4/2348 | 07/09/14 | RNAV (GPS) RWY 34, Amdt 1.
21-Aug-14 | MD | Baltimore | Baltimore/Washington Intl Thurgood Marshall | 4/2352 | 07/10/14 | ILS RWY 15R, Amdt 15C.
21-Aug-14 | MD | Baltimore | Baltimore/Washington Intl Thurgood Marshall | 4/2358 | 07/10/14 | RNAV (GPS) RWY 15L, Amdt 3A.
21-Aug-14 | MD | Baltimore | Baltimore/Washington Intl Thurgood Marshall | 4/2360 | 07/10/14 | ILS OR LOC RWY 15L, Amdt 3A.
21-Aug-14 | WI | Mineral Point | Iowa County | 4/2472 | 07/07/14 | RNAV (GPS) RWY 22, Amdt 1.
21-Aug-14 | WI | Mineral Point | Iowa County | 4/2492 | 07/07/14 | RNAV (GPS) RWY 29, Amdt 1.
21-Aug-14 | WI | Mineral Point | Iowa County | 4/2495 | 07/07/14 | NDB RWY 22, Amdt 6.
21-Aug-14 | TX | Victoria | Victoria Rgnl | 4/2524 | 07/08/14 | RNAV (GPS) RWY 13L, Amdt 1.
21-Aug-14 | TX | Victoria | Victoria Rgnl | 4/2567 | 07/08/14 | ILS OR LOC/DME RWY 13L, Amdt 12.
21-Aug-14 | TX | Victoria | Victoria Rgnl | 4/2568 | 07/08/14 | VOR RWY 13L, Amdt 17.
21-Aug-14 | MS | Vicksburg | Vicksburg Muni | 4/2576 | 06/30/14 | RNAV (GPS) RWY 19, Orig.
21-Aug-14 | AR | West Memphis | West Memphis Muni | 4/2604 | 07/08/14 | ILS OR LOC RWY 17, Amdt 5.
21-Aug-14 | PA | Philadelphia | Northeast Philadelphia | 4/2615 | 07/10/14 | LOC BC RWY 6, Amdt 7A.
21-Aug-14 | PA | Philadelphia | Northeast Philadelphia | 4/2617 | 07/10/14 | RNAV (GPS) RWY 15, Amdt 1.
21-Aug-14 | IN | Indianapolis | Indianapolis Rgnl | 4/2621 | 07/07/14 | RNAV (GPS) RWY 16, Amdt 1.
21-Aug-14 | PA | Philadelphia | Northeast Philadelphia | 4/2622 | 07/10/14 | RNAV (GPS) RWY 33, Amdt 1.
21-Aug-14 | PA | Philadelphia | Northeast Philadelphia | 4/2623 | 07/10/14 | VOR RWY 6, Amdt 12A.
21-Aug-14 | PA | Philadelphia | Northeast Philadelphia | 4/2624 | 07/10/14 | RNAV (GPS) RWY 24, Orig-A.
21-Aug-14 | PA | Philadelphia | Northeast Philadelphia | 4/2626 | 07/10/14 | VOR RWY 24, Amdt 19A.
21-Aug-14 | PA | Philadelphia | Northeast Philadelphia | 4/2627 | 07/10/14 | ILS OR LOC RWY 24, Amdt 12A.
21-Aug-14 | NE | Chadron | Chadron Muni | 4/2640 | 07/08/14 | RNAV (GPS) RWY 11, Orig.
21-Aug-14 | CO | Denver | Centennial | 4/2653 | 07/09/14 | RNAV (GPS) Z RWY 35R, Orig.
21-Aug-14 | CO | Denver | Centennial | 4/2654 | 07/09/14 | RNAV (GPS) Y RWY 35R, Amdt 1.
21-Aug-14 | CO | Denver | Centennial | 4/2655 | 07/09/14 | ILS OR LOC RWY 35R, Amdt 9A.
21-Aug-14 | CO | Denver | Centennial | 4/2656 | 07/09/14 | RNAV (GPS) RWY 17L, Orig.
21-Aug-14 | CO | Denver | Centennial | 4/2657 | 07/09/14 | RNAV (GPS) RWY 28, Amdt 1.
21-Aug-14 | FL | Jacksonville | Cecil | 4/2658 | 07/11/14 | ILS OR LOC RWY 36R, Amdt 2.
21-Aug-14 | FL | Jacksonville | Cecil | 4/2659 | 07/11/14 | RNAV (GPS) RWY 36R, Orig.
21-Aug-14 | SD | Philip | Philip | 4/2685 | 07/09/14 | RNAV (GPS) RWY 12, Orig.
21-Aug-14 | TN | Mc Minnville | Warren County Memorial | 4/2698 | 07/03/14 | RNAV (GPS) RWY 23, Orig.
21-Aug-14 | MO | Kaiser/Lake Ozark | Lee C Fine Memorial | 4/3089 | 07/07/14 | LOC/DME RWY 22, Amdt 2.
21-Aug-14 | MO | Kaiser/Lake Ozark | Lee C Fine Memorial | 4/3090 | 07/07/14 | RNAV (GPS) RWY 22, Amdt 1.
21-Aug-14 | NJ | Millville | Millville Muni | 4/3091 | 06/30/14 | RNAV (GPS) RWY 10, Orig.
21-Aug-14 | NJ | Millville | Millville Muni | 4/3092 | 06/30/14 | ILS OR LOC RWY 10, Amdt 2A.
21-Aug-14 | NJ | Millville | Millville Muni | 4/3094 | 06/30/14 | RNAV (GPS) RWY 32, Orig-A.
21-Aug-14 | MO | Springfield | Springfield-Branson National | 4/3117 | 07/09/14 | RNAV (GPS) RWY 32, Amdt 2.
21-Aug-14 | IA | Fort Dodge | Fort Dodge Rgnl | 4/3363 | 07/09/14 | VOR/DME RWY 30, Amdt 11.
21-Aug-14 | CO | Fort Collins/Loveland | Fort Collins-Loveland Muni | 4/3381 | 7/2/2014 | ILS OR LOC RWY 33, Amdt 6A.
21-Aug-14 | CO | Fort Collins/Loveland | Fort Collins-Loveland Muni | 4/3384 | 7/2/2014 | RNAV (GPS) RWY 33, Amdt 1.
21-Aug-14 | MT | Forsyth | Tillitt Field | 4/3445 | 07/10/14 | RNAV (GPS) RWY 26, Orig-B.
21-Aug-14 | MT | Forsyth | Tillitt Field | 4/3446 | 07/10/14 | NDB RWY 26, Amdt 3A.
21-Aug-14 | IN | Rensselaer | Jasper County | 4/3555 | 07/07/14 | RNAV (GPS) RWY 18, Orig.
21-Aug-14 | IN | Rensselaer | Jasper County | 4/3556 | 07/07/14 | RNAV (GPS) RWY 36, Orig.
21-Aug-14 | MS | Jackson | Jackson-Medgar Wiley Evers Intl | 4/3557 | 07/10/14 | VOR/DME OR TACAN RWY 34R, Orig.
21-Aug-14 | MS | Jackson | Jackson-Medgar Wiley Evers Intl | 4/3559 | 07/10/14 | RNAV (GPS) RWY 34R, Amdt 2.
21-Aug-14 | NC | Plymouth | Plymouth Muni | 4/3570 | 07/03/14 | RNAV (GPS) RWY 3, Orig.
21-Aug-14 | NC | Plymouth | Plymouth Muni | 4/3571 | 07/03/14 | RNAV (GPS) RWY 21, Orig.
21-Aug-14 | LA | Opelousas | St Landry Parish-Ahart Field | 4/3678 | 07/07/14 | RNAV (GPS) RWY 36, Amdt 1.
21-Aug-14 | LA | New Orleans | Louis Armstrong New Orleans Intl | 4/3679 | 07/09/14 | RNAV (RNP) Z RWY 28, Amdt 1.
21-Aug-14 | LA | New Orleans | Louis Armstrong New Orleans Intl | 4/3680 | 07/09/14 | ILS OR LOC RWY 1, Amdt 17A.
21-Aug-14 | LA | New Orleans | Louis Armstrong New Orleans Intl | 4/3681 | 07/09/14 | RNAV (GPS) RWY 1, Amdt 1.
21-Aug-14 | LA | New Orleans | Louis Armstrong New Orleans Intl | 4/3682 | 07/09/14 | RNAV (GPS) Y RWY 28, Amdt 3.
21-Aug-14 | LA | New Orleans | Louis Armstrong New Orleans Intl | 4/3683 | 07/09/14 | ILS OR LOC RWY 28, Amdt 9.
21-Aug-14 | LA | Natchitoches | Natchitoches Rgnl | 4/3684 | 07/07/14 | RNAV (GPS) RWY 17, Amdt 1.
21-Aug-14 | CA | Sacramento | Sacramento Intl | 4/3687 | 07/10/14 | ILS OR LOC RWY 34L, Amdt 7B.
21-Aug-14 | IL | Springfield | Abraham Lincoln Capital | 4/3707 | 07/09/14 | RNAV (GPS) RWY 13, Amdt 1A.
21-Aug-14 | IL | Springfield | Abraham Lincoln Capital | 4/3712 | 07/09/14 | VOR/DME RWY 13, Orig-A.
21-Aug-14 | MI | Escanaba | Delta County | 4/3727 | 07/09/14 | VOR RWY 9, Amdt 14A.
21-Aug-14 | MI | Escanaba | Delta County | 4/3736 | 07/09/14 | ILS OR LOC RWY 9, Amdt 2B.
21-Aug-14 | MI | Escanaba | Delta County | 4/3737 | 07/09/14 | RNAV (GPS) RWY 9, Orig-A.
21-Aug-14 | MI | Gaylord | Gaylord Rgnl | 4/3747 | 07/07/14 | RNAV (GPS) RWY 27, Orig.
21-Aug-14 | MI | Gaylord | Gaylord Rgnl | 4/3756 | 07/07/14 | VOR RWY 9, Amdt 2.
21-Aug-14 | MI | Gaylord | Gaylord Rgnl | 4/3757 | 07/07/14 | NDB RWY 9, Amdt 13.
21-Aug-14 | MI | Gaylord | Gaylord Rgnl | 4/3758 | 07/07/14 | RNAV (GPS) RWY 9, Orig.
21-Aug-14 | MI | Gaylord | Gaylord Rgnl | 4/3760 | 07/07/14 | VOR RWY 27, Amdt 2.
21-Aug-14 | LA | Shreveport | Shreveport Rgnl | 4/3764 | 07/09/14 | RNAV (GPS) RWY 24, Amdt 1.
21-Aug-14 | LA | Patterson | Harry P Williams Memorial | 4/3769 | 07/07/14 | NDB RWY 6, Amdt 11A.
21-Aug-14 | LA | Patterson | Harry P Williams Memorial | 4/3770 | 07/07/14 | RNAV (GPS) RWY 24, Amdt 1A.
21-Aug-14 | LA | Patterson | Harry P Williams Memorial | 4/3771 | 07/07/14 | ILS OR LOC/DME RWY 24, Amdt 2B.
21-Aug-14 | MO | Kansas City | Kansas City Intl | 4/3804 | 07/08/14 | RNAV (GPS) Y RWY 27, Amdt 2.
21-Aug-14 | MO | Kansas City | Kansas City Intl | 4/3805 | 07/08/14 | RNAV (RNP) Z RWY 27, Amdt 1.
21-Aug-14 | MO | Kansas City | Kansas City Intl | 4/3808 | 07/08/14 | ILS OR LOC RWY 27, Amdt 3.
21-Aug-14 | MO | Kansas City | Kansas City Intl | 4/3809 | 07/08/14 | RNAV (GPS) Y RWY 1L, Amdt 2
21-Aug-14 | MO | Kansas City | Kansas City Intl | 4/3810 | 07/08/14 | ILS OR LOC RWY 1L, Amdt 15.
21-Aug-14 | MO | Kansas City | Kansas City Intl | 4/3814 | 07/08/14 | RNAV (GPS) Y RWY 19R, Amdt 2.
21-Aug-14 | MO | Kansas City | Kansas City Intl | 4/3815 | 07/08/14 | ILS OR LOC RWY 19L, Amdt 2.
21-Aug-14 | MO | Kansas City | Kansas City Intl | 4/3817 | 07/08/14 | ILS OR LOC RWY 9, Amdt 14.
21-Aug-14 | MO | Kansas City | Kansas City Intl | 4/3818 | 07/08/14 | RNAV (RNP) Z RWY 19L, Amdt 1.
21-Aug-14 | MO | Kansas City | Kansas City Intl | 4/3819 | 07/08/14 | RNAV (RNP) Z RWY 1L, Amdt 1A.
21-Aug-14 | MO | Kansas City | Kansas City Intl | 4/3823 | 07/08/14 | RNAV (GPS) Y RWY 19L, Amdt 2.
21-Aug-14 | MO | Kansas City | Kansas City Intl | 4/3824 | 07/08/14 | RNAV (GPS) Y RWY 9, Amdt 2.
21-Aug-14 | MO | Kansas City | Kansas City Intl | 4/3826 | 07/08/14 | RNAV (RNP) Z RWY 9, Amdt 1.
21-Aug-14 | MO | Kansas City | Kansas City Intl | 4/3827 | 07/08/14 | RNAV (GPS) Y RWY 1R, Amdt 2.
21-Aug-14 | MO | Kansas City | Kansas City Intl | 4/3828 | 07/08/14 | RNAV (RNP) Z RWY 1R, Amdt 1A.
21-Aug-14 | MO | Kansas City | Kansas City Intl | 4/3830 | 07/08/14 | RNAV (RNP) Z RWY 19R, Amdt 1.
21-Aug-14 | KY | Greenville | Muhlenberg County | 4/3855 | 07/03/14 | RNAV (GPS) RWY 24, Amdt 1.
21-Aug-14 | MO | Neosho | Neosho Hugh Robinson | 4/3856 | 07/08/14 | RNAV (GPS) RWY 1, Amdt 1.
21-Aug-14 | CA | Riverside | Riverside Muni | 4/4108 | 06/30/14 | VOR RWY 9, Amdt 1.
21-Aug-14 | CA | Riverside | Riverside Muni | 4/4111 | 06/30/14 | ILS OR LOC RWY 9, Amdt 8A.
21-Aug-14 | CA | Riverside | Riverside Muni | 4/4112 | 06/30/14 | RNAV (GPS) RWY 9, Amdt 2.
21-Aug-14 | CA | Rio Vista | Rio Vista Muni | 4/4113 | 7/2/2014 | RNAV (GPS) RWY 25, Amdt 3.
21-Aug-14 | CA | San Francisco | San Francisco Intl | 4/4142 | 07/10/14 | ILS OR LOC RWY 19L, Amdt 20B.
21-Aug-14 | SC | Darlington | Darlington County Jetport | 4/4313 | 07/09/14 | RNAV (GPS) RWY 23, Orig.
21-Aug-14 | SD | Spearfish | Black Hills-Clyde Ice Field | 4/4380 | 07/09/14 | RNAV (GPS) RWY 31, Orig-A.
21-Aug-14 | SD | Spearfish | Black Hills-Clyde Ice Field | 4/4381 | 07/09/14 | RNAV (GPS) RWY 13, Orig-A.
21-Aug-14 | UT | Blanding | Blanding Muni | 4/4382 | 7/2/2014 | RNAV (GPS) RWY 35, Amdt 2A.
21-Aug-14 | NH | Nashua | Boire Field | 4/4445 | 07/11/14 | RNAV (GPS) RWY 32, Amdt 1.
21-Aug-14 | NH | Nashua | Boire Field | 4/4446 | 07/11/14 | RNAV (GPS) RWY 14, Amdt 1.
21-Aug-14 | NH | Nashua | Boire Field | 4/4447 | 07/11/14 | ILS OR LOC RWY 14, Amdt 1.
21-Aug-14 | NH | Nashua | Boire Field | 4/4448 | 07/11/14 | NDB RWY 14, Orig.
21-Aug-14 | NH | Nashua | Boire Field | 4/4449 | 07/11/14 | VOR RWY 32, Orig.
21-Aug-14 | WI | Black River Falls | Black River Falls Area | 4/4469 | 07/07/14 | RNAV (GPS) RWY 26, Orig.
21-Aug-14 | IN | Portland | Portland Muni | 4/4525 | 07/03/14 | RNAV (GPS) RWY 9, Amdt 1.
21-Aug-14 | IN | Portland | Portland Muni | 4/4530 | 07/03/14 | RNAV (GPS) RWY 27, Amdt 1.
21-Aug-14 | OH | Bryan | Williams County | 4/4533 | 07/08/14 | RNAV (GPS) RWY 25, Amdt 1.
21-Aug-14 | AZ | Window Rock | Window Rock | 4/4535 | 7/2/2014 | RNAV (GPS) RWY 2, Amdt 1.
21-Aug-14 | CA | Davis/Woodland/Winters | Yolo County | 4/4574 | 7/2/2014 | RNAV (GPS) RWY 34, Amdt 2.
21-Aug-14 | CA | Davis/Woodland/Winters | Yolo County | 4/4575 | 7/2/2014 | RNAV (GPS) RWY 16, Amdt 2.
21-Aug-14 | KS | Belleville | Belleville Muni | 4/4905 | 07/07/14 | RNAV (GPS) RWY 18, Orig.
21-Aug-14 | KS | Wichita | Beech Factory | 4/4907 | 07/07/14 | RNAV (GPS) RWY 1, Amdt 1A.
21-Aug-14 | KS | Wichita | Beech Factory | 4/4908 | 07/07/14 | RNAV (GPS) RWY 19, Amdt 1A.
21-Aug-14 | CA | Willows | Willows-Glenn County | 4/5062 | 06/30/14 | RNAV (GPS) RWY 34, Orig.
21-Aug-14 | CA | Willows | Willows-Glenn County | 4/5063 | 06/30/14 | VOR/DME RWY 34, Amdt 5.
21-Aug-14 | WI | Madison | Dane County Rgnl-Truax Field | 4/5085 | 07/08/14 | ILS OR LOC/DME RWY 36, Amdt 1B.
21-Aug-14 | WI | Madison | Dane County Rgnl-Truax Field | 4/5087 | 07/08/14 | VOR RWY 32, Amdt 1.
21-Aug-14 | WI | Madison | Dane County Rgnl-Truax Field | 4/5090 | 07/08/14 | RNAV (GPS) RWY 32, Amdt 2B.
21-Aug-14 | WI | Madison | Dane County Rgnl-Truax Field | 4/5094 | 07/08/14 | RNAV (GPS) RWY 36, Amdt 2A.
21-Aug-14 | WI | Madison | Dane County Rgnl-Truax Field | 4/5095 | 07/08/14 | RNAV (GPS) RWY 3, Orig-A.
21-Aug-14 | WI | Madison | Dane County Rgnl-Truax Field | 4/5099 | 07/08/14 | RNAV (GPS) RWY 21, Amdt 2A.
21-Aug-14 | ID | Pocatello | Pocatello Rgnl | 4/5117 | 7/2/2014 | VOR RWY 3, Amdt 17A.
21-Aug-14 | NE | Burwell | Cram Field | 4/5122 | 07/07/14 | RNAV (GPS) RWY 33, Orig.
21-Aug-14 | IL | Robinson | Crawford Co | 4/5134 | 07/07/14 | RNAV (GPS) RWY 9, Amdt 1.
21-Aug-14 | IL | Robinson | Crawford Co | 4/5136 | 07/07/14 | RNAV (GPS) RWY 27, Amdt 1.
21-Aug-14 | IL | Robinson | Crawford Co | 4/5138 | 07/07/14 | NDB RWY 17, Amdt 8.
21-Aug-14 | IL | Robinson | Crawford Co | 4/5139 | 07/07/14 | RNAV (GPS) RWY 17, Orig.
21-Aug-14 | OK | Stillwater | Stillwater Rgnl | 4/5142 | 07/07/14 | RNAV (GPS) RWY 35, Amdt 1.
21-Aug-14 | OK | Stillwater | Stillwater Rgnl | 4/5143 | 07/07/14 | VOR/DME RWY 35, Amdt 1A.
21-Aug-14 | MO | Cuba | Cuba Muni | 4/5148 | 07/07/14 | RNAV (GPS) RWY 18, Orig.
21-Aug-14 | SC | Darlington | Darlington County Jetport | 4/5166 | 07/10/14 | RNAV (GPS) RWY 5, Orig.
21-Aug-14 | SC | Greenwood | Greenwood County | 4/5407 | 07/09/14 | VOR OR GPS RWY 9, Amdt 13A.
21-Aug-14 | MO | Kansas City | Kansas City Intl | 4/5616 | 07/08/14 | ILS OR LOC RWY 19R, ILS RWY 19R (SA CAT I), ILS RWY 19R (CAT II & III), Amdt 11.
21-Aug-14 | MO | Kansas City | Kansas City Intl | 4/5617 | 07/08/14 | ILS OR LOC RWY 1R, ILS RWY 1R (SA CAT I), ILS RWY 1R (CAT II & III), Amdt 4.
21-Aug-14 | WA | Tacoma | Tacoma Narrows | 4/5638 | 07/10/14 | RNAV (GPS) RWY 35, Orig-A.
21-Aug-14 | WA | Tacoma | Tacoma Narrows | 4/5639 | 07/10/14 | NDB RWY 35, Amdt 8A.
21-Aug-14 | MA | Orange | Orange Muni | 4/5652 | 07/11/14 | NDB RWY 32, Amdt 1.
21-Aug-14 | MA | Orange | Orange Muni | 4/5653 | 07/11/14 | RNAV (GPS) RWY 32, Orig.
21-Aug-14 | CA | Ontario | Ontario Intl | 4/5660 | 06/30/14 | ILS OR LOC RWY 8L, Amdt 9.
21-Aug-14 | IL | Olney-Noble | Olney-Noble | 4/5662 | 07/08/14 | RNAV (GPS) RWY 11, Amdt 1.
21-Aug-14 | WA | Tacoma | Tacoma Narrows | 4/5679 | 07/10/14 | RNAV (GPS) RWY 17, Orig-A.
21-Aug-14 | WA | Tacoma | Tacoma Narrows | 4/5680 | 07/10/14 | ILS RWY 17, Amdt 8B.
21-Aug-14 | NY | Shirley | Brookhaven | 4/5712 | 7/2/2014 | ILS OR LOC RWY 6, Amdt 2.
21-Aug-14 | NY | Shirley | Brookhaven | 4/5714 | 7/2/2014 | RNAV (GPS) RWY 6, Amdt 2.
21-Aug-14 | NC | Burlington | Burlington-Alamance Rgnl | 4/5719 | 07/03/14 | RNAV (GPS) RWY 6, Amdt 1.
21-Aug-14 | NC | Burlington | Burlington-Alamance Rgnl | 4/5720 | 07/03/14 | RNAV (GPS) RWY 24, Orig.
21-Aug-14 | NC | Burlington | Burlington-Alamance Rgnl | 4/5724 | 07/03/14 | ILS Z OR LOC/NDB Z RWY 6, Amdt 2.
21-Aug-14 | NJ | Robbinsville | Trenton-Robbinsville | 4/5918 | 07/10/14 | RNAV (GPS) RWY 29, Amdt 1.
21-Aug-14 | NJ | Robbinsville | Trenton-Robbinsville | 4/5919 | 07/10/14 | RNAV (GPS) RWY 11, Orig.
21-Aug-14 | NJ | Robbinsville | Trenton-Robbinsville | 4/5920 | 07/10/14 | VOR RWY 29, Amdt 11.
21-Aug-14 | GA | Baxley | Baxley Muni | 4/5924 | 07/08/14 | RNAV (GPS) RWY 8, Amdt 1.
21-Aug-14 | GA | Baxley | Baxley Muni | 4/5932 | 07/08/14 | NDB RWY 8, Amdt 2.
21-Aug-14 | GA | Baxley | Baxley Muni | 4/5934 | 07/08/14 | RNAV (GPS) RWY 26, Amdt 1.
21-Aug-14 | GA | Camilla | Camilla-Mitchell County | 4/5948 | 07/03/14 | NDB RWY 8, Amdt 3.
21-Aug-14 | GA | Camilla | Camilla-Mitchell County | 4/5949 | 07/03/14 | RNAV (GPS) RWY 8, Amdt 1.
21-Aug-14 | NC | Oak Island | Cape Fear Rgnl Jetport/Howie Franklin Fld | 4/5970 | 07/03/14 | RNAV (GPS) RWY 23, Orig-A.
21-Aug-14 | PA | East Stroudsburg | Stroudsburg-Pocono | 4/6057 | 7/2/2014 | RNAV (GPS) RWY 8, Orig.
21-Aug-14 | NC | Ahoskie | Tri-County | 4/6108 | 07/10/14 | GPS RWY 19, Orig.
21-Aug-14 | NC | Ahoskie | Tri-County | 4/6109 | 07/10/14 | VOR/DME OR GPS A, Amdt 5.
21-Aug-14 | LA | Bogalusa | George R Carr Memorial Air Fld | 4/6274 | 07/07/14 | RNAV (GPS) RWY 18, Amdt 1.
21-Aug-14 | LA | Bogalusa | George R Carr Memorial Air Fld | 4/6275 | 07/07/14 | LOC RWY 18, Amdt 3.
21-Aug-14 | SC | Greer | Greenville Spartanburg Intl | 4/6520 | 07/10/14 | ILS OR LOC RWY 22, Amdt 5A.
21-Aug-14 | OH | Dayton | Greene County-Lewis A. Jackson Rgnl | 4/6521 | 07/07/14 | VOR RWY 25, Orig.
21-Aug-14 | NJ | West Milford | Greenwood Lake | 4/6522 | 07/03/14 | RNAV (GPS) RWY 24, Orig.
21-Aug-14 | NJ | West Milford | Greenwood Lake | 4/6523 | 07/03/14 | RNAV (GPS) RWY 6, Amdt 1.
21-Aug-14 | IL | Kankakee | Greater Kankakee | 4/6525 | 07/07/14 | VOR RWY 4, Amdt 6A.
21-Aug-14 | IL | Kankakee | Greater Kankakee | 4/6526 | 07/07/14 | RNAV (GPS) RWY 4, Amdt 1.
21-Aug-14 | IL | Kankakee | Greater Kankakee | 4/6527 | 07/07/14 | ILS OR LOC RWY 4, Amdt 7.
21-Aug-14 | WA | Moses Lake | Grant Co Intl | 4/6542 | 06/30/14 | RNAV (RNP) Z RWY 22, Orig.
21-Aug-14 | WA | Moses Lake | Grant Co Intl | 4/6544 | 06/30/14 | RNAV (GPS) Y RWY 22, Amdt 1A.
21-Aug-14 | MI | Alma | Gratiot Community | 4/6547 | 07/08/14 | RNAV (GPS) RWY 27, Amdt 1.
21-Aug-14 | OR | Scappoose | Scappoose Industrial Airpark | 4/6552 | 7/2/2014 | LOC/DME RWY 15, Amdt 3.
21-Aug-14 | OR | Scappoose | Scappoose Industrial Airpark | 4/6553 | 7/2/2014 | RNAV (GPS) RWY 15, Orig.
21-Aug-14 | MN | Detroit Lakes | Detroit Lakes-Wething Field | 4/6581 | 07/03/14 | VOR RWY 13, Amdt 1.
21-Aug-14 | CA | Twentynine Palms | Twentynine Palms | 4/6625 | 06/30/14 | RNAV (GPS) RWY 26, Amdt 2.
21-Aug-14 | OH | Marysville | Union County | 4/6628 | 07/07/14 | RNAV (GPS) RWY 9, Orig.
21-Aug-14 | OK | Norman | University Of Oklahoma Westheimer | 4/6629 | 07/03/14 | RNAV (GPS) RWY 17, Amdt 1.
21-Aug-14 | OK | Norman | University Of Oklahoma Westheimer | 4/6630 | 07/03/14 | ILS OR LOC RWY 17, Amdt 1A.
21-Aug-14 | NE | Beatrice | Beatrice Muni | 4/6645 | 07/10/14 | RNAV (GPS) RWY 14, Amdt 1.
21-Aug-14 | NE | Beatrice | Beatrice Muni | 4/6647 | 07/10/14 | VOR RWY 18, Amdt 2.
21-Aug-14 | NE | Beatrice | Beatrice Muni | 4/6648 | 07/10/14 | RNAV (GPS) RWY 18, Amdt 2.
21-Aug-14 | CA | Sacramento | Sacramento Intl | 4/6680 | 07/10/14 | RNAV (GPS) Y RWY 16L, Amdt 1B.
21-Aug-14 | CA | Sacramento | Sacramento Intl | 4/6681 | 07/10/14 | RNAV (GPS) Y RWY 16R, Amdt 1A.
21-Aug-14 | CA | Sacramento | Sacramento Intl | 4/6682 | 07/10/14 | ILS OR LOC RWY 16R, ILS RWY 16R (SA CAT I), ILS RWY 16R (CAT II & CAT III), Amdt 15A.
21-Aug-14 | CA | Sacramento | Sacramento Intl | 4/6683 | 07/10/14 | ILS OR LOC RWY 16L, Amdt 2B.
21-Aug-14 | CA | Sacramento | Sacramento Intl | 4/6684 | 07/10/14 | RNAV (GPS) Y RWY 34L, Amdt 1B.
21-Aug-14 | SC | Anderson | Anderson Rgnl | 4/6732 | 06/30/14 | RNAV (GPS) RWY 17, Amdt 1.
21-Aug-14 | SC | Anderson | Anderson Rgnl | 4/6733 | 06/30/14 | RNAV (GPS) RWY 35, Amdt 1.
21-Aug-14 | AL | Anniston | Anniston Rgnl | 4/6735 | 07/11/14 | RNAV (GPS) Y RWY 23, Amdt 1A.
21-Aug-14 | AL | Anniston | Anniston Rgnl | 4/6736 | 07/11/14 | RNAV (GPS) Z RWY 23, Orig-A.
21-Aug-14 | FL | Venice | Venice Muni | 4/6742 | 07/03/14 | RNAV (GPS) RWY 5, Orig.
21-Aug-14 | FL | Venice | Venice Muni | 4/6743 | 07/03/14 | RNAV (GPS) RWY 13, Amdt 1.
21-Aug-14 | FL | Venice | Venice Muni | 4/6744 | 07/03/14 | RNAV (GPS) RWY 31, Amdt 1.
21-Aug-14 | FL | Venice | Venice Muni | 4/6745 | 07/03/14 | RNAV (GPS) RWY 23, Orig.
21-Aug-14 | FL | Immokalee | Immokalee Rgnl | 4/6776 | 07/01/14 | RNAV (GPS) RWY 36, Orig-A.
21-Aug-14 | FL | Immokalee | Immokalee Rgnl | 4/6777 | 07/01/14 | RNAV (GPS) RWY 9, Orig-A.
21-Aug-14 | FL | Immokalee | Immokalee Rgnl | 4/6781 | 07/01/14 | RNAV (GPS) RWY 27, Orig-A.
21-Aug-14 | PA | Washington | Washington County | 4/6828 | 07/10/14 | ILS OR LOC RWY 27, Amdt 1.
21-Aug-14 | PA | Washington | Washington County | 4/6829 | 07/10/14 | RNAV (GPS) RWY 27, Amdt 1.
21-Aug-14 | PA | Washington | Washington County | 4/6830 | 07/10/14 | RNAV (GPS) RWY 9, Amdt 1B.
21-Aug-14 | SC | Winnsboro | Fairfield County | 4/6834 | 07/03/14 | RNAV (GPS) RWY 22, Amdt 1.
21-Aug-14 | SC | Winnsboro | Fairfield County | 4/6837 | 07/03/14 | NDB RWY 4, Amdt 4.
21-Aug-14 | SC | Winnsboro | Fairfield County | 4/6838 | 07/03/14 | RNAV (GPS) RWY 4, Amdt 1.
21-Aug-14 | TX | Tyler | Tyler Pounds Rgnl | 4/6842 | 07/09/14 | VOR/DME RWY 4, Amdt 4.
21-Aug-14 | TX | Tyler | Tyler Pounds Rgnl | 4/6843 | 07/09/14 | RNAV (GPS) RWY 4, Amdt 2.
21-Aug-14 | AZ | Tucson | Tucson Intl | 4/6848 | 06/30/14 | RNAV (GPS) RWY 29L, Amdt 1.
21-Aug-14 | AZ | Tucson | Tucson Intl | 4/6849 | 06/30/14 | RNAV (GPS) RWY 3, Amdt 1.
21-Aug-14 | IA | Sioux City | Sioux Gateway/Col. Bud Day Field | 4/6870 | 07/08/14 | RNAV (GPS) RWY 17, Orig-C.
21-Aug-14 | IA | Sioux City | Sioux Gateway/Col. Bud Day Field | 4/6881 | 07/08/14 | NDB RWY 17, Amdt 2.
21-Aug-14 | TN | Smyrna | Smyrna | 4/6960 | 07/01/14 | VOR/DME RWY 14, Amdt 7B.
21-Aug-14 | TN | Smyrna | Smyrna | 4/6961 | 07/01/14 | RNAV (GPS) RWY 1, Orig.
21-Aug-14 | AL | Evergreen | Middleton Field | 4/7012 | 07/03/14 | RNAV (GPS) RWY 19, Amdt 1.
21-Aug-14 | CO | Sterling | Sterling Muni | 4/7040 | 7/2/2014 | RNAV (GPS) RWY 15, Orig.
21-Aug-14 | MO | Mexico | Mexico Memorial | 4/7045 | 07/08/14 | RNAV (GPS) RWY 6, Amdt 1.
21-Aug-14 | CO | Sterling | Sterling Muni | 4/7048 | 7/2/2014 | RNAV (GPS) RWY 33, Orig.
21-Aug-14 | CO | Sterling | Sterling Muni | 4/7050 | 7/2/2014 | NDB RWY 33, Amdt 3.
21-Aug-14 | IN | Sullivan | Sullivan County | 4/7083 | 07/08/14 | NDB RWY 36, Amdt 7.
21-Aug-14 | TX | Alice | Alice Intl | 4/7292 | 07/08/14 | RNAV (GPS) RWY 13, Amdt 1.
21-Aug-14 | LA | Alexandria | Esler Rgnl | 4/7293 | 07/09/14 | RNAV (GPS) RWY 27, Amdt 2.
21-Aug-14 | LA | Alexandria | Esler Rgnl | 4/7294 | 07/09/14 | RNAV (GPS) RWY 9, Amdt 2.
21-Aug-14 | LA | Alexandria | Esler Rgnl | 4/7296 | 07/09/14 | ILS OR LOC/DME RWY 27, Amdt 16.
21-Aug-14 | IA | Ames | Ames Muni | 4/7298 | 07/07/14 | ILS OR LOC RWY 1, Amdt 2.
21-Aug-14 | CA | Alturas | Alturas Muni | 4/7301 | 06/30/14 | RNAV (GPS) RWY 31, Amdt 1.
21-Aug-14 | UT | Salt Lake City | South Valley Rgnl | 4/7328 | 07/10/14 | RNAV (GPS) Y RWY 34, Orig-A.
21-Aug-14 | TX | San Marcos | San Marcos Muni | 4/7494 | 07/08/14 | RNAV (GPS) RWY 13, Amdt 2.
21-Aug-14 | TX | San Marcos | San Marcos Muni | 4/7496 | 07/08/14 | ILS OR LOC RWY 13, Amdt 6.
21-Aug-14 | TX | San Marcos | San Marcos Muni | 4/7497 | 07/08/14 | RNAV (GPS) RWY 17, Orig.
21-Aug-14 | WI | Hayward | Sawyer County | 4/7636 | 07/08/14 | LOC/DME RWY 20, Amdt 1B.
21-Aug-14 | NY | Saranac Lake | Adirondack Rgnl | 4/7734 | 06/30/14 | LOC Y RWY 23, Orig.
21-Aug-14 | NY | Saranac Lake | Adirondack Rgnl | 4/7735 | 06/30/14 | VOR RWY 9, Amdt 2.
21-Aug-14 | NY | Saranac Lake | Adirondack Rgnl | 4/7738 | 06/30/14 | VOR/DME RWY 5, Amdt 4.
21-Aug-14 | NY | Saranac Lake | Adirondack Rgnl | 4/7739 | 06/30/14 | RNAV (GPS) RWY 5, Amdt 1.
21-Aug-14 | NY | Saranac Lake | Adirondack Rgnl | 4/7740 | 06/30/14 | RNAV (GPS) RWY 9, Orig.
21-Aug-14 | NY | Saranac Lake | Adirondack Rgnl | 4/7741 | 06/30/14 | RNAV (GPS) RWY 23, Orig-A.
21-Aug-14 | NY | Saranac Lake | Adirondack Rgnl | 4/7742 | 06/30/14 | ILS OR LOC/DME Z RWY 23, Amdt 9.
21-Aug-14 | NE | Beatrice | Beatrice Muni | 4/8333 | 07/10/14 | RNAV (GPS) RWY 32, Amdt 1.
21-Aug-14 | NE | Beatrice | Beatrice Muni | 4/8334 | 07/10/14 | RNAV (GPS) RWY 36, Amdt 2.
21-Aug-14 | FL | La Belle | La Belle Muni | 4/8439 | 07/11/14 | RNAV (GPS) RWY 32, Orig-A.
21-Aug-14 | FL | La Belle | La Belle Muni | 4/8446 | 07/11/14 | RNAV (GPS) RWY 14, Orig-B.
21-Aug-14 | OH | Lima | Lima Allen County | 4/9704 | 07/07/14 | ILS OR LOC RWY 28, Amdt 5.
21-Aug-14 | OH | Lima | Lima Allen County | 4/9709 | 07/07/14 | RNAV (GPS) RWY 28, Amdt 2.
21-Aug-14 | OR | Lakeview | Lake County | 4/9753 | 7/2/2014 | RNAV (GPS) RWY 17, Orig.
21-Aug-14 | OR | Lakeview | Lake County | 4/9754 | 7/2/2014 | RNAV (GPS) RWY 35, Orig.
21-Aug-14 | IN | La Porte | La Porte Muni | 4/9755 | 07/07/14 | RNAV (GPS) RWY 2, Amdt 1.
21-Aug-14 | FL | Lake City | Lake City Gateway | 4/9761 | 06/30/14 | RNAV (GPS) RWY 28, Amdt 1A.
21-Aug-14 | MI | Houghton Lake | Roscommon County—Blodgett Memorial | 4/9789 | 07/08/14 | RNAV (GPS) RWY 9, Amdt 2A.
21-Aug-14 | MI | Houghton Lake | Roscommon County—Blodgett Memorial | 4/9790 | 07/08/14 | VOR RWY 9, Amdt 5.
21-Aug-14 | NE | Beatrice | Beatrice Muni | 4/9867 | 07/10/14 | VOR RWY 14, Amdt 18.
21-Aug-14 | AR | Camden | Harrell Field | 4/9899 | 07/08/14 | RNAV (GPS) RWY 19, Amdt 1.
21-Aug-14 | IA | Hampton | Hampton Muni | 4/9902 | 07/09/14 | RNAV (GPS) RWY 17, Amdt 1.
21-Aug-14 | IA | Monticello | Monticello Rgnl | 4/9904 | 07/03/14 | RNAV (GPS) RWY 33, Amdt 1A.

[FR Doc. 2014-18598 Filed 8-8-14; 8:45 am]

BILLING CODE 4910-13-P